DEPARTMENT OF LABOR

Mine Safety and Health Administration

[OMB Control No. 1219-0011]

Extension of a Currently Approved Collection; Respirable Coal Mine Dust Sampling

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995. This program helps to assure that requested data can be provided in the desired format, reporting burden (time and financial resources) is minimized, collection instruments are clearly understood, and the impact of collection requirements on respondents can be properly assessed. Currently, the Mine Safety and Health Administration (MSHA) is soliciting comments on the information collection for Respirable Coal Mine Dust Sampling.

DATES: All comments must be received on or before July 22, 2022.

ADDRESSES: Comments concerning the information collection requirements of this notice may be sent by any of the methods listed below.

• Federal E-Rulemaking Portal: http://www.regulations.gov. Follow the on-line instructions for submitting comments for docket number MSHA-2022-0025.

• Mail/Hand Delivery: Mail or visit DOL-MSHA, Office of Standards, Regulations, and Variances, 201 12th Street South, Suite 4E401, Arlington, VA 22202-5452. Before visiting MSHA in person, call 202-693-9455 to make an appointment, in keeping with the Department of Labor's COVID-19 policy. Special health precautions may be required.

• MSHA will post your comment as well as any attachments, except for information submitted and marked as confidential, in the docket at https://www.regulations.gov.

FOR FURTHER INFORMATION CONTACT: S. Aromie Noe, Director, Office of Standards, Regulations, and Variances, MSHA, at MSHA.information.collections@dol.gov (email); 202-693-9440 (voice); or 202-693-9441 (facsimile).

SUPPLEMENTARY INFORMATION:

I. Background

Chronic exposure to respirable coal mine dust causes various lung diseases, including coal workers' pneumoconiosis (CWP), emphysema, silicosis, and chronic bronchitis, that are known collectively as “black lung.” These diseases are debilitating and can result in disability and premature death. While considerable progress has been made in lowering dust levels since the 1970s and, consequently, in lowering the prevalence rate of black lung among coal miners, severe cases of black lung continue to be identified. Information from the federally funded Coal Workers' Health Surveillance Programs administered by the National Institute for Occupational Safety and Health (NIOSH) indicates that black lung remains a key occupational health risk among our nation's coal miners. According to NIOSH, 402 (or 2.7 percent) of the 14,775 underground coal miners who participated in the Coal Workers Health Surveillance Program and were x-rayed between January 2010 and December 2014 were found to have CWP (NIOSH 2019).

Section 103(h) of the Federal Mine Safety and Health Act of 1977 (Mine Act), 30 U.S.C. 813(h), authorizes MSHA to collect information necessary to carry out its duty to protect the safety and health of miners. Further, section 101(a) of the Mine Act, 30 U.S.C. 811(a), authorizes the Secretary of Labor (Secretary) to develop, promulgate, and revise, as may be appropriate, improved mandatory health or safety standards for the protection of life and prevention of injuries in coal and other mines. This Information Collection, OMB No. 1219-0011, concerns requirements for respirable coal mine dust sampling that took effect on February 1, 2016, and respirable dust standards that took effect on August 1, 2016, under MSHA's final rule, Lowering Miners' Exposure to Respirable Coal Mine Dust, Including Continuous Personal Dust Monitors (79 FR 24814; May 1, 2014).

MSHA's standards in 30 CFR parts 70, 71, and 90 require each mine operator of an underground coal mine, surface coal mine, or surface work area of an underground coal mine, and each coal mine operator who employs a part 90 miner, to protect miners from exposure to excessive levels of respirable coal mine dust. Parts 70 and 71 require each coal mine operator to continuously maintain the average concentration of respirable coal mine dust in the mine atmosphere where miners normally work or travel at or below 1.5 milligrams per cubic meter (mg/m³). When the respirable dust contains more than 5 percent quartz, this standard is reduced to an amount equivalent to 10 divided by the percentage of quartz in the dust sample. In addition, each coal mine operator is required to continuously maintain the average concentration of respirable dust in intake airways at underground mines at or below 0.5 mg/m³.

If a part 90 miner is employed at the mine, the coal mine operator is required to continuously maintain the average concentration of respirable dust in the mine atmosphere during each shift to which the part 90 miner in the active workings of the mine is exposed at or below 0.5 mg/m³. This standard is also reduced if more than 5 percent quartz is found in the mine atmosphere during each shift to which the part 90 miner is exposed.

MSHA's standards require that coal mine operators sample respirable coal mine dust on a quarterly basis and submit these samples to MSHA for analysis to determine if the mine is complying with the applicable dust standards. Underground coal mine operators must sample: The Designated Occupation (DO) and Other Designated Occupation (ODO) in each Mechanized Mining Unit (MMU) under 30 CFR 70.208; and each Designated Area (DA) at locations specified in the operator's approved mine ventilation plan under 30 CFR 70.209. In addition, Designated Work Positions (DWPs) at surface coal mines and surface work areas of underground coal mines must be sampled under 30 CFR 71.206. Furthermore, each part 90 miner must be sampled quarterly under 30 CFR 90.207.

The following sections provide a description of the information collection requirements for Respirable Coal Mine Dust Sampling conducted under 30 CFR parts 70, 71, and 90. The requirements include general and technical requirements for sampling, sampling device flowrate, operator transmission of respirable dust samples, quarterly sampling, posting or providing respirable dust sampling reports and dust data cards, status changes, respirable dust control plans, and mine ventilation plans.

A. Information Collections Related to Sampling

Table 1 summarizes the information collections related to general and technical requirements for sampling conducted under parts 70, 71, and 90, such as the use of continuous personal dust monitors (CPDMs) instead of coal mine dust personal sampling units (CMDPSUs), shift length, and sampling start date and time.

Table 1—General and Technical Requirements for Sampling
30 CFR provision | Topic | General description of collection requirements
70.201(b)(2) 71.201(a) | Use of CMDPSU or CPDM | Samples taken quarterly using an approved CMDPSU, unless the operator notifies the District Manager (DM) 90 days before use that an approved CPDM will be used.
70.201(e), 71.201(d), 90.201(f) | Shift length | Length of each shift recorded; retained for 6 months; made available for inspection; submitted to the DM when requested.
70.201(f), 71.201(e), 90.201(g) | Sampling start date and time | Upon request from the DM, submission of the date and time of sampling start, at least 48 hours prior to start.
71.201(f) | Rain restriction | Upon written request by the operator, the DM may waive the rain restriction.
70.201(g) | Run-of-mine material produced | Recording the amount of run-of-mine material produced by each MMU during each shift to determine the average production for the most recent 30 production shifts; retained for 6 months; made available for inspection.
70.201(j), 90.201(j) | Use of CPDM in anthracite mining | When choosing not to use a CPDM in anthracite mining that uses full box, open breast, or slant breast mining, provide written notification to the DM.

Use of CMDPSU or CPDM: Section 70.201(b)(2) requires that DAs identified by the underground coal mine operator be sampled quarterly with an approved CMDPSU unless the operator notifies the District Manager in writing that an approved CPDM will be used for all DA sampling at the mine. With respect to DWP sampling, section 71.201(a) requires each mine operator of a surface coal mine and each mine operator of an underground coal mine with surface work areas who is sampling on the surface to sample with an approved CMDPSU. However, the operator may use an approved CPDM if the operator notifies the District Manager in writing that an approved CPDM will be used for all DWP sampling at the mine. MSHA does not expect underground coal mine operators to use the CPDM to conduct DA sampling underground or DWP sampling on the surface area of the underground mine. Also, MSHA does not expect surface coal mine operators to use the CPDM to conduct DWP sampling. Thus, there are no notifications to the MSHA District Manager and therefore no burdens to operators for sections 70.201(b)(2) and 71.201(a).

Shift length: Sections 70.201(e), 71.201(d), and 90.201(f) require that coal mine operators make records showing the length of: Each production shift for each MMU; each normal work shift for each DWP; and each shift for each part 90 miner, respectively. These provisions also require that the records be retained for at least 6 months, made available for inspection by authorized representatives of the Secretary and, except in the case of part 90 miners, by the miners' representative. The records also must be submitted to the District Manager when requested in writing.

There are no separate burdens shown for recording shift lengths for sections 70.201(e) for underground coal mines and 90.201(f) related to part 90 miners when sampling is conducted because records of shift length are accounted for under sections 70.211(c) and 90.209(c) when a CPDM Dust Data Card is printed and signed. However, burdens for recording shift lengths when sampling is not conducted are shown under sections 70.201(e) and 90.201(f).

For surface work areas of underground coal mines and surface coal mines, there is no burden shown for section 71.201(d) when DWP sampling is conducted because records of shift length are accounted for under section 71.207(c) when a CMDPSU Dust Data Card is completed. However, the burden for recording shift length when sampling is not conducted is shown under section 71.201(d).

Sampling start date and time: Sections 70.201(f), 71.201(e), and 90.201(g) require that upon request from the District Manager, the operator must submit the date and time any respirable dust sampling required by parts 70, 71, or 90 will begin. The mine operator must submit this information to MSHA at least 48 hours prior to scheduled sampling.

Rain restriction: Under section 71.201(f), a mine operator may request, in writing, that the rain restriction for a “normal work shift” as defined in section 71.2 be waived by the District Manager.

Run-of-mine material produced: Section 70.201(g) requires that to establish a normal production shift, the operator must record the amount of run-of-mine material produced by each MMU during each shift to determine the average production for the most recent 30 production shifts, or for all production shifts if fewer than 30 shifts of production data are available. It also requires that the production records must be retained for at least 6 months and be made available for inspection by authorized representatives of the Secretary and the miners' representative.

Use of CPDM in anthracite mining: Sections 70.201(j) and 90.201(j) allow the mine operator of an anthracite mine that uses the full box, open breast, or slant breast mining method to use either a CPDM or a CMDPSU for respirable coal mine dust sampling required under part 70 or part 90. However, if the mine operator chooses not to use a CPDM, the operator must notify the District Manager in writing of this decision. To estimate the full cost impact upon coal mine operators, MSHA assumed that these operators will use the CPDM for the required sampling. Therefore, no burden was estimated at this time for these operators to notify the District Manager of their choice not to use the CPDM. Operators may reevaluate whether to use the CPDM. Therefore, future updates to this package may result in a burden for these provisions.

B. Information Collections Related to Improper Sampling Device Flowrate

Table 2 summarizes information collections related to sampling device flowrate requirements conducted under parts 70, 71, and 90.

Table 2—Sampling Device Flowrate
30 CFR provision | Topic | General description of collection requirements
70.205(b)(2), 71.205(b)(2), 90.205(b)(2) | Proper flowrate | When using a CMDPSU, each sampling device must be examined by a person certified in sampling, and when the proper flowrate is not maintained, the certified person must note this on the Dust Data Card and transmit to MSHA.

Proper flowrate: Sections 70.205(b)(2), 71.205(b)(2), and 90.205(b)(2) require that if a CMDPSU is used to sample respirable coal mine dust, each approved sampling device must be examined each shift by a person certified in sampling during the last hour of operation to ensure that the sampling device is operating properly and at the proper flowrate. If the proper flowrate is not maintained, the certified person must note that the proper flowrate was not maintained on the back of the Dust Data Card, and the card must accompany the sample which must be transmitted to MSHA. Other events occurring during the collection of respirable coal mine dust samples that may affect the validity of the sample, such as dropping of the sampling head assembly onto the mine floor, must also be noted on the back of the Dust Data Card. The burdens for these requirements are included in the burdens estimated to complete the Dust Data Cards under sections 70.210(c), 71.207(c) and 90.208(c).

C. Information Collections Related to Operator Transmission of Respirable Dust Samples

Table 3 summarizes information collections related to transmission of respirable coal mine dust samples by the operator under parts 70, 71, and 90, such as operator transmission of samples to MSHA, completing the Dust Data Card, and notification of samples taken for other purposes.

Table 3—Operator Transmission of Respirable Dust Samples
30 CFR provision | Topic | General description of collection requirements
70.210(a), 71.207(a), 90.208(a) | Transmitting samples to MSHA | When using a CMDPSU, transmit all samples collected within 24 hours after the sampling shift to MSHA.
70.210(c), 71.207(c), 90.208(c) | Completing the Dust Data Card | The person certified in sampling must complete the Dust Data Card for each filter cassette and must provide a signature.
70.210(d), 71.207(d), 90.208(d) | Samples for other purposes | All operator samples must be included to fulfill the sampling requirements, unless the sample has been identified in writing to the DM prior to the intended shift as a sample to be used for another purpose.
70.210(f), 71.207(f), 90.208(f) | CPDM data file information | When using a CPDM, the certified person must validate, certify, and transmit to MSHA within 24 hours after the end of each shift all sample data file information collected and stored in the CPDM and maintained for at least 12 months.

Transmitting samples to MSHA: Sections 70.210(a), 71.207(a), and 90.208(a) require that if a CMDPSU is used to sample, the operator must transmit within 24 hours after the end of the sampling shift all samples collected to fulfill the requirements of parts 70, 71, or 90, including control filters, in containers provided by the manufacturer of the filter cassette to: Respirable Dust Processing Laboratory, Pittsburgh Safety and Health Technology Center, Cochrans Mill Road, Building 38, P.O. Box 18179, Pittsburgh, Pennsylvania 15236-0179, or to any other address designated by the District Manager.

Completing the Dust Data Card: Sections 70.210(c), 71.207(c), and 90.208(c) require that a person certified in sampling properly complete the Dust Data Card that is provided by the manufacturer for each filter cassette. The card must have an identification number identical to that on the cassette used to take the sample and must be submitted to MSHA with the sample. Each card must be signed by the certified person who performed the required examinations during the sampling shift and include that person's MSHA Individual Identification Number (MIIN). Respirable dust samples with Dust Data Cards not properly completed may be voided by MSHA.

Samples for other purposes: Sections 70.210(d), 71.207(d), and 90.208(d) require all operator samples be included as samples taken to fulfill the sampling requirements of parts 70, 71, and 90, respectively, unless the operator identified the sample in writing to the District Manager and prior to the intended sampling shift as a sample to be used for another purpose.

CPDM data file information: Sections 70.210(f), 71.207(f), and 90.208(f) require that if a CPDM is used to sample, the person certified in sampling must validate, certify, and transmit electronically to MSHA within 24 hours after the end of each sampling shift all sample data file information collected and stored in the CPDM, including the sampling status conditions encountered when sampling. All CPDM data files transmitted electronically to MSHA must be maintained by the operator for at least 12 months.

The burdens for sections 70.210(a), (c), and (f), 71.207(a) and (c), and 90.208(f) are included in the burdens for sections 70.210, 71.207, and 90.208, respectively. Section 71.207(f) pertains only to using the CPDM. However, operators of surface coal mines and operators of surface work areas of underground coal mines are only required to use the CPDM for part 90 miner sampling, and MSHA does not expect them to use the CPDM to conduct DWP sampling. Thus, the burden for section 71.207(f) is accounted for in the burden for section 90.208(f).

D. Information Collections Related to Quarterly Sampling

Table 4 summarizes information collections related to quarterly sampling conducted under parts 70, 71, and 90, such as recording corrective actions when samples exceed the excessive concentration value (ECV) or following a citation.

Table 4—Quarterly Sampling
30 CFR provision | Topic | General description of collection requirements
70.208(e)(3), 70.209(c)(3), 90.207(c)(3) | Record of corrective actions taken when sample exceeds the ECV | When a valid sample meets or exceeds the ECV, the operator must, upon implementation of corrective actions, make a record of the actions taken. The record must be certified by the mine official; made in a secure book; retained for at least 1 year; and made available for inspection (except for part 90 miners).
70.208(h)(3), 70.209(f)(3), 90.207(f)(3) | Record of corrective actions taken following a citation | Upon issuance of a citation, the operator must, upon implementation of corrective actions, make a record of the actions taken. The record must be certified by the mine official; made in a secure book; retained for at least 1 year; and made available for inspection (except for part 90 miners).
70.208(i)(2), 70.209(g)(2) | Revised dust control parameters following a citation | A citation will be terminated when the operator has submitted to the DM revised dust control parameters and the changes are approved by the DM.
71.206(d) | Identifying specific work positions where DWP samples will be collected | Each operator must provide the DM with a list identifying the specific work positions where DWP samples will be collected for: Active mines; new mines; and DWPs with a change in operational status that increases or reduces the number of active DWPs.
71.206(e) | Notifying MSHA that sample was not taken on a normal work shift | If a normal work shift is not achieved, the respirable dust sample must be transmitted to MSHA with a notation by the person certified in sampling on the back of the Dust Data Card stating that the sample was not taken on a normal work shift.
71.206(h)(3) | Record of corrective actions taken when sample exceeds the ECV | When a valid sample meets or exceeds the ECV, the operator must, upon implementation of corrective actions, make a record of the actions taken. The record must be certified by the mine official; made in a secure book; retained for at least 1 year; and made available for inspection.
71.206(k)(3) | Record of corrective actions taken following a citation | Upon issuance of a citation, the operator must, upon implementation of corrective actions, make a record of the actions taken. The record must be certified by the mine official; made in a secure book; retained for at least 1 year; and made available for inspection.

Record of corrective actions taken when sample exceeds the ECV: Quarterly sampling requirements are in section 70.208 for MMUs, section 70.209 for DAs, and section 90.207 for part 90 miners. Sections 70.208(e)(3), 70.209(c)(3), and 90.207(c)(3) require that when a valid representative sample meets or exceeds the ECV that corresponds to the applicable standard and particular sampling device used for either an MMU or DA, respectively, or that corresponds to the applicable standard and particular sampling device used for part 90 miner sampling, the operator must make, upon implementation of corrective actions, a record of the actions taken. The record must be certified by the mine foreman or equivalent mine official no later than the end of the mine foreman's or equivalent official's next regularly scheduled working shift. The record must be made in a secure book that is not susceptible to alteration or electronically in a computer system so as to be secure and not susceptible to alteration. Such records must be retained at a surface location at the mine for at least 1 year and be made available for inspection by authorized representatives of the Secretary and, except for part 90 miners, the miners' representative. Also, the records must be made available for inspection by the affected part 90 miner who was sampled.

Record of corrective actions taken following a citation: Sections 70.208(h)(3), 70.209(f)(3), and 90.207(f)(3) require that mine operators, upon issuance of a citation for violation of the applicable standard for either an MMU, DA, or part 90 miner, respectively, must make, upon implementation of corrective actions, a record of the actions taken. The record must be certified by the mine foreman or equivalent mine official no later than the end of the mine foreman's or equivalent official's next regularly scheduled working shift. The record must be made in a secure book that is not susceptible to alteration or electronically in a computer system so as to be secure and not susceptible to alteration. Such records must be retained at a surface location at the mine for at least 1 year and be made available for inspection by authorized representatives of the Secretary and, except for part 90 miners, the miners' representative. Also, the records must be made available for inspection by the affected part 90 miner who was sampled.

Revised dust control parameters following a citation: Sections 70.208(i)(2) and 70.209(g)(2) provide that a citation for violation of the applicable standard shall be terminated by MSHA when the operator has submitted to the District Manager revised dust control parameters as part of the mine ventilation plan applicable to the MMU or the DA, respectively, in the citation and such changes have been approved by the District Manager. The revised parameters must reflect the control measures used by the operator to abate the violation.

Identifying specific work positions where DWP samples will be collected: DWPs at surface coal mines and surface work areas of underground coal mines must be sampled quarterly under section 71.206. Under section 71.206(d), operators with multiple work positions that are specified in section 71.206(c)(2) and (c)(3) must sample the DWP exposed to the greatest respirable dust concentration in each work position performing the same activity or task at the same location at the mine and exposed to the same dust generation source. Each operator must provide the District Manager with a list identifying the specific work positions where DWP samples will be collected for: Active mines; new mines; and DWPs with a change in operational status that increases or reduces the number of active DWPs.

Notifying MSHA that sample was not taken on a normal work shift: Section 71.206(e) requires that each DWP sample must be taken on a normal work shift. If a normal work shift is not achieved, the respirable dust sample must be transmitted to MSHA with a notation by the person certified in sampling on the back of the Dust Data Card stating that the sample was not taken on a normal work shift. Section 71.207(c) requires that a person certified in sampling properly complete the Dust Data Card that is provided by the manufacturer for each filter cassette. The card must have an identification number identical to that on the cassette used to take the sample and must be submitted to MSHA with the sample. Each card must be signed by the certified person who performed the required examinations during the sampling shift and include that person's MIIN. A separate burden has not been included for section 71.206(e) since MSHA assumed that any notations can be made at the same time that the Dust Data Card is completed under section 71.207(c).

Record of corrective actions taken when sample exceeds the ECV: Section 71.206(h)(3) requires that when a valid representative sample taken in accordance with this section meets or exceeds the ECV that corresponds to the applicable standard and particular sampling device used, the operator must make, upon implementation of the corrective actions, a record of the actions taken. The record must be certified by the mine foreman or equivalent mine official no later than the end of the mine foreman's or equivalent official's next regularly scheduled working shift. The record must be made in a secure book that is not susceptible to alteration or electronically in a computer system so as to be secure and not susceptible to alteration. Such records must be retained at a surface location at the mine for at least 1 year and be made available for inspection by authorized representatives of the Secretary and the miners' representative. There are no separate burden estimates projected for section 71.206(h)(3). MSHA assumed that surface samples that meet or exceed the applicable ECV will result in a citation, and this burden appears under section 71.206(k)(3).

Record of corrective actions taken following a citation: Section 71.206(k)(3) requires that upon issuance of a citation for violation of the applicable standard, the operator must make, upon implementation of corrective actions, a record of the actions taken. The record must be certified by the mine foreman or equivalent mine official no later than the end of the mine foreman's or equivalent official's next regularly scheduled working shift. The record must be made in a secure book that is not susceptible to alteration or electronically in a computer system so as to be secure and not susceptible to alteration. Such records must be retained at a surface location at the mine for at least 1 year and be made available for inspection by authorized representatives of the Secretary and the miners' representative.

E. Information Collections Related to Posting or Providing Respirable Dust Sampling Reports or Dust Data Cards

Table 5 summarizes information collections related to reporting respirable dust samples to the operator and posting or providing results conducted under parts 70, 71, and 90, such as posting such reports on the mine bulletin board or providing such reports to part 90 miners.

Table 5—Posting or Providing Respirable Dust Sampling Reports and Dust Data Cards
30 CFR provision | Topic | General description of collection requirements
70.211(b), 71.208(b) | Posting sampling report on the mine bulletin board | Upon receipt of the sampling report that contains sampling results from MSHA, the operator must post the data for at least 31 days on the mine bulletin board.
70.211(c), 71.208(c) | Posting the Dust Data Card on the mine bulletin board | When using a CPDM, the person certified in sampling must print, sign, and post the Dust Data Card on the mine bulletin board within 12 hours after the end of each shift.
70.211(c)(5), 71.207(c) | Shift length | When using a CPDM, the person certified in sampling must print, sign, and post the Dust Data Card on the mine bulletin board within 12 hours after the end of each shift, including shift length.
90.209(c)(5) | Shift length | When using a CPDM, the person certified in sampling must print, sign, and provide to each part 90 miner, a paper record (Dust Data Card) of the sample run within 1 hour after the start of the part 90 miner's next work shift, including shift length.
90.209(b) | Sampling report for part 90 miners | Upon receipt of the sampling report from MSHA, the operator must provide a copy to the part 90 miner only.
90.209(c) | Dust Data Card for part 90 miners | When using a CPDM, the person certified in sampling must print, sign, and provide to each part 90 miner, a paper record (Dust Data Card) of the sample run within 1 hour after the start of the part 90 miner's next work shift.

Posting sampling report on the mine bulletin board: Sections 70.211(b) and 71.208(b) require that upon receipt of the sampling report that contains sampling results from MSHA, the operator must post the data for at least 31 days on the mine bulletin board.

Posting the Dust Data Card on the mine bulletin board: Sections 70.211(c) and 71.208(c) require, if using a CPDM, the person certified in sampling to print, sign, and post on the mine bulletin board a paper record (Dust Data Card) of each sample run within 12 hours after the end of each sampling shift. This hard-copy record must include the data entered when the sample run was first programmed and the following: The mine identification number; the locations within the mine or the DWP at the mine from which the samples were taken; the concentration of respirable dust, expressed as an equivalent concentration, reported and stored for each sample; the sampling status conditions encountered for each sample; and the shift length. Section 71.208(c) requires that when CPDMs are used for DWP sampling, underground coal mine operators that have surface work areas and surface coal mine operators print, sign, and post a paper record (Dust Data Card) with the shift length and other information regarding sampling for each location sampled under Part 71. MSHA does not expect that the CPDM will be used for DWP sampling by underground coal mine operators on the surface area of the underground mine or by surface coal mine operators. Therefore, no burden was estimated at this time for Section 71.208(c).

Shift length: Section 70.211(c)(5) requires that, when CPDMs are used for sampling, underground coal mine operators print, sign, and post a paper record (Dust Data Card) that must include sample results, including the shift length. Under section 90.209(c)(5), when CPDMs are used for sampling, coal mine operators must print, sign, and provide to each part 90 miner a Dust Data Card that details the sample results, including shift length. Under sections 70.210(c) and 71.207(c), if using a CMDPSU, the operator must complete a Dust Data Card, which includes reporting the sampling shift start time and sampling time in minutes.

Sampling report for part 90 miners: For part 90 miners, section 90.209(b) requires that upon receipt of the sampling report from MSHA, the operator must provide a copy to the part 90 miner only.

Dust Data Card for part 90 miners: Section 90.209(c) requires that if using a CPDM, the person certified in sampling must print, sign, and provide to each part 90 miner, a paper record (Dust Data Card) of the sample run within 1 hour after the start of the part 90 miner's next work shift. This hard copy record must include the data entered when the sample run was first programmed and the following: The mine identification number; the location within the mine from which the sample was taken; the concentration of respirable dust, expressed as an equivalent concentration reported and stored for each sample; the sampling status conditions encountered for each sample; the shift length; and the part 90 miner's MIIN.

F. Information Collections Related to Status Changes

Table 6 summarizes information collections related to operational status changes conducted under parts 70, 71, and 90.

Table 6—Status Change Reports
30 CFR provision | Topic | General description of collection requirements
70.212(a), 71.209(a), 90.210 | Status changes | For any change in operational status that affects the respirable dust sampling requirements, the operator must report the change to MSHA. Status changes must be reported in writing or electronically, within 3 working days after the status change has occurred.

Status changes: Sections 70.212(a), 71.209(a), and 90.210 require that if there is a change in operational status that affects the respirable dust sampling requirements of parts 70, 71, or 90, respectively, the operator must report the change in operational status of the mine, MMU, DA, DWP, or part 90 miner (such as the part 90 miner entering a terminated, injured, or ill status, or returning to work) to the MSHA District Office or to any other MSHA office designated by the District Manager. Status changes must be reported in writing or electronically, within 3 working days after the status change has occurred.

G. Information Collections Related to Respirable Dust Control Plans

Table 7 summarizes information collections related to dust control plans under parts 71 and 90, such as submission of dust control plans following a citation, posting the plan on the mine bulletin board, or providing the plan to part 90 miners.

Table 7—Respirable Dust Control Plans
30 CFR provision | Topic | General description of collection requirements
71.300(a) | Dust control plan following a citation | The mine operator must submit for approval a written respirable dust control plan applicable to the DWP identified in the citation within 15 calendar days after the termination date of a citation.
71.300(a)(1) | Notification of the miners' representatives of dust control plan | The mine operator must notify the miners' representative at least 5 days prior to submission to MSHA of a respirable dust control plan and any revision to a dust control plan.
71.300(a)(3) | Posting the dust control plan on the mine bulletin board | A copy of the proposed respirable dust control plan, and a copy of any proposed revision, submitted for Agency approval must be posted on the mine bulletin board at the time of submittal.
90.300(a) | Dust control plan for part 90 miners following a citation | If an operator abates a violation of the applicable standard by reducing the respirable dust level in the position of the part 90 miner, the operator must submit, for the DM's approval, a written respirable dust control plan for the part 90 miner in the position identified in the citation within 15 calendar days after the citation is terminated.
71.301(d)(1) | Notification of miners' representatives following dust control plan approval | The approved respirable dust control plan and any revisions must be provided upon request to the miners' representative by the operator following notification of approval.
71.301(d)(3) | Posting the dust control plan on the mine bulletin board following approval | The plan or revisions must be posted on the mine bulletin board within 1 working day following notification of approval and remain posted for the period that the plan is in effect.
71.301(e) | Review of dust control plans and revisions | The operator may review respirable dust control plans and submit proposed revisions to such plans to the DM for approval.
90.301(d) | Dust control plan for part 90 miners | The mine operator must provide a copy of the current respirable dust control plan to the part 90 miner.
90.301(e) | Review of dust control plans and revisions for part 90 miners | The operator may review respirable dust control plans and submit proposed revisions to such plans to the DM for approval.

Dust control plan following a citation: Section 71.300(a) requires that the operator submit to the District Manager for approval a written respirable dust control plan applicable to the DWP identified in the citation within 15 calendar days after the termination date of a citation for violation of the applicable standard. The respirable dust control plan and revisions must be suitable to the conditions and the mining system of the coal mine and be adequate to continuously maintain respirable dust within the applicable standard at the DWP identified in the citation.

Notification of the miners' representatives of dust control plan: Section 71.300(a)(1) requires that the mine operator must notify the miners' representative at least 5 days prior to submission to MSHA of a respirable dust control plan and any revision to a dust control plan. If requested, the mine operator must provide a copy to the miners' representative at the time of notification.

Posting the dust control plan on the mine bulletin board: Section 71.300(a)(3) requires that a copy of the proposed respirable dust control plan and a copy of any proposed revision submitted for Agency approval must be posted on the mine bulletin board at the time of submittal. The proposed plan or proposed revision must remain posted until it is approved, withdrawn, or denied.

Dust control plan for part 90 miners following a citation: Section 90.300(a) requires that if an operator abates a violation of the applicable standard by reducing the respirable dust level in the position of the part 90 miner, the operator must submit, for the District Manager's approval, a written respirable dust control plan for the part 90 miner in the position identified in the citation within 15 calendar days after the citation is terminated. The respirable dust control plan and revisions thereof must be suitable to the conditions and the mining system of the coal mine and be adequate to continuously maintain respirable dust within the applicable standard for that part 90 miner.

Notification of miners' representative following dust control plan approval: Under section 71.301(d)(1), the approved respirable dust control plan and any revisions must be provided upon request to the miners' representative by the operator following notification of approval.

Posting the dust control plan on the mine bulletin board following approval: Under section 71.301(d)(3), the plan or revisions must be posted on the mine bulletin board within 1 working day following notification of approval and remain posted for the period that the plan is in effect.

Review of dust control plans and revisions: Under section 71.301(e), the operator may review respirable dust control plans and submit proposed revisions to such plans to the District Manager for approval.

Dust control plan for part 90 miners: Section 90.301(d) requires the operator to provide a copy of the current respirable dust control plan to the part 90 miner.

Review of dust control plans and revisions for part 90 miners: Under section 90.301(e), the operator may review respirable dust control plans and submit proposed revisions to such plans to the District Manager for approval.

H. Information Collections Related to Mine Ventilation Plans

Table 8 summarizes information collections related to mine ventilation plans under part 75, such as notifying miners' representatives of the mine ventilation plan, posting the approved plan on the mine bulletin board, and providing the approved plan to miners' representatives.

Table 8—Mine Ventilation Plans
30 CFR provision | Topic | General description of collection requirements
75.370(a)(3)(i) | Notification of miners' representatives of mine ventilation plan | Notify the miners' representative at least 5 days prior to submission of mine ventilation plan and any revision and, if requested, provide a copy to the miners' representative at the time of notification.
75.370(a)(3)(iii), 75.370(f)(3) | Posting the mine ventilation plan and approval on the mine bulletin board | Posting a copy of the proposed plan and any proposed revision, and the MSHA-approved plan and any revisions, respectively, on the mine bulletin board.
75.370(f)(1) | Providing approved plan to miners' representatives | Providing a copy of the MSHA-approved plan and any revisions to the miners' representative, if requested.

Notification of the miners' representative of mine ventilation plan: Section 75.370(a)(3)(i) requires underground coal mine operators to notify the miners' representative at least 5 days prior to submission of the mine ventilation plan and any revision and, if requested, provide a copy to the miners' representative at the time of notification.

Posting the mine ventilation plan and approval on the mine bulletin board: Sections 75.370(a)(3)(iii) and (f)(3) require the operator to post a copy of the proposed plan and any proposed revision, and the MSHA-approved plan and any revisions, respectively, on the mine bulletin board.

Providing approved plan to miners' representatives: In addition, Section 75.370(f)(1) requires the operator to provide a copy of the MSHA-approved plan and any revisions to the miners' representative, if requested.

II. Desired Focus of Comments

MSHA is soliciting comments concerning the proposed information collection related to Respirable Coal Mine Dust Sampling. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at USDOL-Mine Safety and Health Administration, 201 12th Street South, Suite 4E401, Arlington, VA 22202-5452. Sign in at the receptionist's desk on the 4th Floor via the East elevator. Before visiting MSHA in person, call 202-693-9455 to make an appointment, in keeping with the Department of Labor's COVID-19 policy. Special health precautions may be required.

Questions about the information collection requirements may be directed to the person listed in the FOR FURTHER INFORMATION section of this notice.

III. Current Actions

This request for collection of information contains provisions for Respirable Coal Mine Dust Sampling. MSHA has updated the data with respect to the number of respondents, responses, burden hours, and burden costs supporting this information collection request.

Type of Review: Extension of a currently approved collection.

Agency: Mine Safety and Health Administration.

OMB Number: 1219-0011.

Affected Public: Business or other for-profit.

Number of Respondents: 676.

Frequency: On occasion.

Number of Responses: 1,158,062.

Annual Burden Hours: 81,858 hours.

Annual Respondent or Recordkeeper Cost: $42,057.

MSHA Forms: Miner Operator Dust Data Card

Comments submitted in response to this notice will be summarized and included in the request for Office of Management and Budget approval of the information collection request; they will also become a matter of public record.

Song-ae Aromie Noe,
Certifying Officer.

[FR Doc. 2022-10897 Filed 5-20-22; 8:45 am]

BILLING CODE 4510-43-P